DEPARTMENT OF TRANSPORTATION

Federal Transit Administration

Federal Highway Administration

[Docket Number: FTA-2006-24905]

Notice of Availability of Proposed Guidance on Section 6002 of the Safe, Accountable, Flexible, Efficient Transportation Equity Act: A Legacy for Users (SAFETEA-LU) and Request for Comments

AGENCIES: Federal Transit Administration (FTA), Federal Highway Administration (FHWA), DOT.

ACTION: Notice of availability; request for comments.

SUMMARY: This notice announces the availability of proposed guidance on the application of section 6002 of the Safe, Accountable, Flexible, and Efficient Transportation Equity Act: A Legacy for Users (SAFETEA-LU) (Pub. L. 109-59, 119 Stat. 1144) to projects funded by the Federal Transit Administration (FTA), the Federal Highway Administration (FHWA), or both. Section 6002 of SAFETEA-LU adds requirements and refinements to the environmental review process for highway and public transportation capital projects. The proposed guidance describes how FTA and FHWA propose to implement the new requirements within the environmental review process required by the National Environmental Policy Act (NEPA) and other Federal laws. The FTA and FHWA request public comments on this proposed guidance.

DATES: Comments must be received by July 31, 2006. Late filed comments will be considered to the extent practicable.

ADDRESSES: The proposed guidance is available on the FTA Web site at http://www.fta.dot.gov/Section6002.doc, in the DOT docket at http://dms.dot.gov in docket number FTA-2006-24905, or in hardcopy by contacting the individuals listed below under FOR FURTHER INFORMATION CONTACT.

Comments, which must be identified by the docket number FTA-2006-24905, may be submitted by any of the following methods:

Web site: Link to http://dms.dot.gov and follow the instructions for submitting comments on the DOT electronic docket site.

Fax: Telefax comments to (202) 493-2251.

U.S. Mail: Mail comments to Docket Management Facility; U.S. Department of Transportation, 400 Seventh Street, SW., PL-401, Washington, DC 20590.

Hand Delivery: Deliver to Room PL-401 on the plaza level of the Nassif Building at 400 Seventh Street, SW., Washington, DC 20590, between 9 a.m. and 5 p.m. e.t., Monday through Friday, except Federal holidays.

For access to the docket to view a complete copy of the proposed guidance, or to read any comments received, go to http://dms.dot.gov at any time or to Room PL-401 on the plaza level of the Nassif Building, 400 Seventh Street, SW., Washington, DC, between 9 a.m. and 5 p.m. e.t., Monday through Friday, except Federal holidays.

Instructions: You must include the agency name (Federal Transit Administration) and the docket number (FTA-2006-24905) with the comments. You should submit two copies of your comments if you submit them by mail. If you wish to receive confirmation that the docket received your comments, you must include a self-addressed stamped postcard. All comments received will be posted without change to the Department's Docket Management System (DMS) Web site located at http://dms.dot.gov, so that any interested party can view the comments of others. As a result, any personal identifying information included in your comments will be publicly available to any user of DMS. Anyone is able to search the electronic form of all comments received into any of our dockets by the name of the individual submitting the comment (or signing the comment, if submitted on behalf of an association, business, labor union, etc.). You may view DOT's complete Privacy Act Statement in the Federal Register published on April 11, 2000 (Volume 65, Number 70, pages 19477-78) or you may visit http://dms.dot.gov.

FOR FURTHER INFORMATION CONTACT: For FTA: Joseph Ossi, Office of Planning and Environment (TPE), (202) 366-1613, or Christopher Van Wyk, Office of Chief Counsel (TCC), (202) 366-1733, Federal Transit Administration, U.S. Department of Transportation, 400 Seventh Street, SW., Washington, DC 20590.

For FHWA: Pamela Stephenson, Office of Project Development (HEPE), (202) 366-2062, or Janet Myers, Office of Chief Counsel (HCC), (202) 366-2019, Federal Highway Administration, U.S. Department of Transportation, 400 Seventh Street SW., Washington, DC 20590.

SUPPLEMENTARY INFORMATION:

Electronic Access

An electronic copy of this notice may be downloaded using a computer, modem and suitable communications software from the Government Printing Office's Electronic Bulletin Board Service at (202) 512-1661. Internet users may reach the Office of the Federal Register's home page at http://www.archives.gov and the Government Printing Office's Web site at http://www.access.gpo.gov. An electronic version of the proposed guidance may be downloaded by accessing the DOT DMS docket, as described above, at http://dms.dot.gov.

Background

The FTA and FHWA are proposing the issuance of joint guidance on the environmental review process required by section 6002 of SAFETEA-LU (Section 6002), which has been codified at 23 U.S.C. 139. Section 6002 adds requirements and refinements to the process by which FHWA and FTA comply with NEPA, which process is set forth in the regulations of the Council on Environmental Quality (CEQ), 40 CFR parts 1500 through 1508, and in the FHWA-FTA environmental impact regulation, 23 CFR part 771. Section 6002 addresses the roles of the project sponsor and the lead, participating, and cooperating agencies; sets new requirements for coordinating and scheduling agency reviews; broadens the authority of States to use Federal aid to ensure timely environmental reviews; specifies a process for resolving interagency disagreements; and establishes a statute of limitations on claims against transportation projects.

The purpose of this proposed guidance is to provide explanations of new and changed aspects of the environmental review process for FHWA and FTA. The guidance would inform transportation practitioners and others about what and how things need to be done differently as a result of SAFETEA-LU. Although this proposed guidance outlines new requirements affecting the environmental review process, it does not supersede any regulations promulgated under NEPA or any other Federal environmental statute. In particular, this proposed guidance would supplement the previously mentioned CEQ regulations (40 CFR parts 1500-1508) and FHWA-FTA environmental impact regulation (23 CFR part 771) which remain in effect. The intent of this proposed guidance is to provide project sponsors with as much flexibility as possible in administering the environmental review process, while providing a framework to facilitate efficient project management and decision-making in accordance with the law.

Section 3032 of SAFETEA-LU requires that FTA provide an opportunity for public review and comment on any guidance issued by FTA that imposes new binding obligations or that effects a significant change in policy, before it becomes effective. The FTA has determined that section 3032 applies to this joint FHWA-FTA guidance on section 6002. The purpose of this notice and the comment period that follows is to comply with section 3032. Section 3032 requirements do not apply to FHWA, but FHWA is nevertheless joining FTA in the publication of this notice and request for comment.

The FTA and FHWA request comment on the proposed guidance in general, which is available as described above under ADDRESSES. The FTA also specifically seeks comment on two issues:

1. Schedules for FTA Projects. Should FTA require the development of a schedule for all FTA projects requiring an environmental impact statement (EIS)? Section 6002 makes the inclusion of a project schedule in the “coordination plan” for the project optional, but FHWA already requires the development of a project schedule for EISs. Under Section 6002, the schedule, when developed, becomes part of the mandatory coordination plan for the EIS. The FTA is considering whether to require, in the interest of good project management, the development of a project schedule and its inclusion in the coordination plan for any transit project requiring an EIS.

2. New Starts Alternatives Analysis. Should FTA continue to allow a New Starts Alternatives Analysis, as defined in 49 U.S.C. 5309(a)(1), to be developed as a non-Federal planning document not subject to NEPA regulatory requirements, or should FTA require that New Starts Alternatives Analysis be merged into the NEPA document (normally an EIS for New Starts projects), be subject to NEPA regulatory requirements, and be signed by the FTA Regional Administrator? Until 1993, all New Starts projects requiring EISs were developed using the latter approach, i.e., the combined Alternatives Analysis/Draft EIS. The planning regulations issued in 1993, at 23 CFR part 450, provided the option of a planning study, called a Major Investment Study (MIS), to serve as the required New Starts Alternatives Analysis. Notwithstanding statutory changes to the MIS requirement in 1998, FTA continued to allow the still-required New Starts Alternatives Analysis to be either a planning study or a NEPA document. Some have suggested that a change may again be in order as a result of two specific SAFETEA-LU provisions: (a) The definition of the New Starts Alternatives Analysis in Section 3011 of SAFETEA-LU, codified at 49 U.S.C. 5309(a)(1), aligns it more closely with the MPO planning process; and (b) section 6002 requires that the “type of work” be identified by the project sponsor at the initiation of the environmental review process. The FTA seeks comment on any implications of these provisions for the New Starts Alternatives Analysis and the NEPA review of the New Starts project.

The FHWA specifically seeks comment on the following questions and issues:

1. Flexibility. Are there specific areas where the guidance could and should provide greater flexibility, while still complying with the relevant section 6002 requirement? Within the limits of section 6002, would flexibility in a particular area allow for customization by the State departments of transportation, transit agencies, and FHWA and FTA field offices in response to issues of greater regional concern?

2. Adequacy of guidance. Are there areas that need additional guidance or instruction on how best to implement the new requirement?

3. Lead agency responsibilities. Some responsibilities of the lead agency have been retained by FHWA and FTA, some have been essentially assigned to the State or local lead agency, and some have been left for the Federal and non-Federal lead agencies to allocate between themselves, project by project as they see fit. Does the description of the roles of the various lead agencies adequately communicate their respective responsibilities, authorities, and limitations? Is the division of labor, responsibility, and authority appropriate?

4. Methodologies for project analyses. Is the process for involving participating agencies in the development of methodologies adequate? Will it serve to minimize late-in-the-process methodological debates between transportation agencies and resource agencies?

5. Coordination with participating agencies. Does the proposed guidance present the required coordination with participating agencies, including the development of a schedule and its resulting implications, in sufficient detail? Should changes in the schedule require coordination with all participating agencies or just with the cooperating agencies, as stated in SAFETEA-LU?

The FTA and FHWA will respond to comments on the guidance generated by this Notice in a second Federal Register notice to be published after the close of the comment period. That second notice will also announce the availability of the revised Section 6002 guidance that reflects the changes implemented as a result of comments received. In the meantime, the proposed guidance provides the current FHWA and FTA interpretation of Section 6002, the requirements of which became effective on August 10, 2005, the date of SAFETEA-LU's enactment.

Authority: 23 U.S.C. 315; Pub. L. 109-59, 119 Stat. 1144; 49 U.S.C. 5334; 23 U.S.C. 139; 49 CFR 1.48; 49 CFR 1.51.

Issued on: June 23, 2006.
Sandra K. Bushue,
Deputy Administrator, Federal Transit Administration.
J. Richard Capka,
Administrator, Federal Highway Administration.

[FR Doc. E6-10217 Filed 6-28-06; 8:45 am]

BILLING CODE 4910-57-P